DEPARTMENT OF HOMELAND SECURITY

Notice of Meeting of the Homeland Security Information Network Advisory Committee, Tuesday, August 31, and Wednesday, September 1, 2010

AGENCY: Department of Homeland Security.

ACTION: Notice of open meeting.

SUMMARY: The Homeland Security Information Network Advisory Committee (HSINAC) will meet from August 31, 2010, to September 1, 2010, in Potomac, MD. This meeting is open to the public during the times listed in this notice.

DATES: The HSINAC will meet on Tuesday, August 31, 2010, from 2 p.m. to 6 p.m., and on Wednesday, September 1, 2010, from 9 a.m. to 6 p.m. The meeting will adjourn early if the committee has completed its business prior to 6 p.m. on September 1.

ADDRESSES: The meeting convenes at the Bolger Center, 9600 Newbridge Drive, Potomac, MD 20854-4436. Send written material, comments, and requests to make oral statements by August 20, 2010, to Gabrielle Gallegos, Department of Homeland Security. Requests can be submitted by e-mail (HSINAC@DHS.gov), fax (202-357-7678), or mail (Gabrielle Gallegos, Department of Homeland Security, OPS CIO-D Stop 0426, 245 Murray Lane, SW., BLDG 410, Washington, DC 20528-0426); include the docket number, DHS-2010-0061, with the request. Background documents and comments received will be posted without alteration at http://www.regulations.gov, including any personal information provided.

FOR FURTHER INFORMATION CONTACT: Gabrielle Gallegos, Department of Homeland Security, OPS CIO-D Stop 0426, 245 Murray Lane, SW., BLDG 410, Washington, DC 20528-0426, HSINAC@DHS.Gov, 202-357-7624, fax 202-357-7678.

SUPPLEMENTARY INFORMATION: Notice of this meeting is delivered in accordance with the Federal Advisory Committee Act, 5 U.S.C. App. 1 (Pub. L. 92-463). The mission of the Homeland Security Information Network Advisory Committee is to identify issues and provide to senior leadership of the Department, in particular the Director of Operations Coordination and Planning, independent advice and recommendations for the improvement of the Homeland Security Information Network (HSIN). The meeting agenda will include discussion of the following topics: HSIN NextGen and the Common Operating Picture upgrade, the HSIN NextGen capabilities release schedule, the DHS portal consolidation program, interoperability across Federal systems, the HSIN business case update, desired future HSIN capabilities, and relocation of the HSIN program.

This meeting is open to the public during the times listed in this notice. Participation in HSINAC deliberations is limited to committee members and Department of Homeland Security officials. The public may attend the meetings, but will not be able to participate in the deliberations. Seating may be limited and is available on a first-come, first-served basis.

Accessibility: For information on facilities or services for individuals with disabilities or to request special assistance at the meeting, contact Gabrielle Gallegos as soon as possible.

The Federal Relay Service (FedRelay), a Federal Government telecommunications service, enables those who are deaf, hard of hearing, or deaf/blind or who have speech disabilities to have equal communication access.

All calls are strictly confidential and no records of conversations are maintained. Toll-Free and Toll Access Numbers for Federal Relay are:

800-877-8339: TTY (Text Telephone)/ASCII (American Standard Code For Information Interchange)

877-877-6280: VCO (Voice Carry Over)

877-877-8982: Speech-to-Speech

800-845-6136: Spanish

800-877-0996: Customer Service (Voice/TTY, ASCII and Spanish)

866-377-8642: Voice

866-893-8340: TeleBraille

From non-domestic locations the number is 605-331-4923

Dated: July 20, 2010.
Richard Chavez,
Acting Director, Operations Coordination and Planning.

[FR Doc. 2010-18577 Filed 7-28-10; 8:45 am]

BILLING-CODE-P